DEPARTMENT OF TRANSPORTATION

Federal Aviation Administration

14 CFR Part 39

[Docket No. FAA-2012-0018; Directorate Identifier 2011-CE-042-AD]

RIN 2120-AA64

Airworthiness Directives; Pilatus Aircraft Ltd. Airplanes

AGENCY: Federal Aviation Administration (FAA), DOT.

ACTION: Proposed rule; correction.

SUMMARY: The FAA is correcting a Notice of Proposed Rulemaking (NPRM) that was published in the Federal Register. That NPRM applies to certain Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. The Docket Number in the heading, in the Supplementary Information section, and in the Part 39—Airworthiness Directive section is incorrect. This document corrects that error. In all other respects, the original document remains the same.

DATES: The last date for submitting comments to the NPRM (77 FR 2238, January 17, 2012) remains March 2, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION: Notice of Proposed Rulemaking (NPRM), Directorate Identifier 2011-CE-042-AD (77 FR 2238, January 17, 2012), currently proposes to require the installation of a new locking screw and the modification of the installation of the hinge bolt for certain Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes.

As published, the Docket Number in the heading, in the SUPPLEMENTARY INFORMATION section, and in the Part 39—Airworthiness Directive section is incorrect.

No other part of the preamble or regulatory information has been changed; therefore, only the changed portion of the NPRM is being published in the Federal Register.

The last date for submitting comments to the NPRM remains March 2, 2012.

Correction of Non-Regulatory Text

In the Federal Register of January 17, 2012, Directorate Identifier 2011-CE-042-AD is corrected as follows:

On page 2238, in the first column, on line 4 under the heading DEPARTMENT OF TRANSPORTATION, change Docket No. FAA-2011-0018 to “Docket No. FAA-2012-0018.”

On page 2238, in the third column, on line 12 under the heading SUPPLEMENTARY INFORMATION, change Docket No. FAA-2011-0018 to “Docket No. FAA-2012-0018.”

Correction of Regulatory Text

§ 39.13 [Corrected]

In the Federal Register of January 17, 2012, on page 2239, in the second column, under the heading PART 39—AIRWORTHINESS DIRECTIVES of Directorate Identifier 2011-CE-042-AD is corrected to read as follows:

* * * * *

Pilatus Aircraft Ltd.: Docket No. FAA-2012-0018; Directorate Identifier 2011-CE-042-AD.

* * * * *

Issued in Kansas City, Missouri, on January 25, 2012.
John Colomy,
Acting Manager, Small Airplane Directorate, Aircraft Certification Service.

[FR Doc. 2012-1991 Filed 1-30-12; 8:45 am]

BILLING CODE 4910-13-P